DEPARTMENT OF HEALTH AND HUMAN SERVICES

Centers for Disease Control and Prevention

[60 Day-11-0770]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Carol Walker, Acting CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National HIV Behavioral Surveillance System (NHBS) (OMB no. 0920-0770, exp. 03/31/2011)—Extension—National Center for HIV, Hepatitis, STD, and TB Prevention (NCHHSTP), Centers for Disease Control and Prevention (CDC).

Background and Brief Description

The purpose of this data collection is to monitor behaviors related to Human Immunodeficiency Virus (HIV) infection among persons at high risk for infection in the United States. The primary objectives of the NHBS system are to obtain data from samples of persons at risk to: (a) Describe the prevalence and trends in risk behaviors; (b) describe the prevalence of and trends in HIV testing and HIV infection; (c) describe the prevalence of and trends in use of HIV prevention services; (d) identify met and unmet needs for HIV prevention services in order to inform health departments, community based organizations, community planning groups and other stakeholders.

This project addresses the goals of the National HIV/AIDS Strategy for the United States, which calls for State and local health departments to monitor progress towards the national goal of reducing new HIV infections by 25% by 2015. NHBS contributes to this national goal by describing and monitoring the HIV risk behaviors, HIV seroprevalence and incidence, and HIV prevention experiences of persons at highest risk for HIV infection.

The Centers for Disease Control and Prevention request approval for a 3-year extension for the previously approved National HIV Behavioral Surveillance System (NHBS), OMB number 0920-0770, which expires 03/31/2011. Data are collected through anonymous, in-person interviews conducted with persons systematically selected from 25 Metropolitan Statistical Areas (MSAs) throughout the United States; these 25 MSAs were chosen based on having high AIDS prevalence. Persons at risk for HIV infection to be interviewed for NHBS include men who have sex with men (MSM), injecting drug users (IDU), and heterosexuals at increased risk of HIV (HET). A brief screening interview will be used to determine eligibility for participation in the behavioral assessment.

The data from the behavioral assessment will provide frequency estimates of behavior related to the risk of HIV and other sexually transmitted diseases, prior testing for HIV, and use of HIV prevention services. All persons interviewed will also be offered an HIV test, and will participate in a pre-test counseling session. No other Federal agency systematically collects this type of information from persons at risk for HIV infection. These data will have a substantial impact on prevention program development and monitoring at the local, State, and national levels.

CDC estimates that NHBS will involve, per year in each of the 25 MSAs, eligibility screening of 50 to 200 persons and eligibility screening plus the behavioral assessment with 500 eligible respondents, resulting in a total of 37,500 eligible survey respondents and 7,500 ineligible screened persons during a 3-year period. Data collection will rotate such that interviews will be conducted among one group per year: MSM in year 1, IDU in year 2, and HET in year 3. The type of data collected for each group will vary slightly due to different sampling methods and risk characteristics of the group.

Participation of respondents is voluntary and there is no cost to the respondents other than their time.

Estimated Annualized Burden Hours
Respondent | Form | Number of respondents | Number of responses per respondent | Average burden per response (hours) | Total burden (in hours)
Year 1:
Men Approached at Eligible Venue | Screener | 17,500 | 1 | 5/60 | 1,458
Eligible Men | Behavioral Assessment | 12,500 | 1 | 60/60 | 12,500
Year 2:
Injecting Drug Users Referred by Peer Recruiters | Screener | 13,750 | 1 | 5/60 | 1,146
Eligible Injecting Drug Users | Behavioral Assessment | 12,500 | 1 | 85/60 | 17,708
Year 3:
Heterosexual Men and Women Referred by Peer Recruiters | Screener | 13,750 | 1 | 5/60 | 1,146
Eligible Heterosexual Men and Women | Behavioral Assessment | 12,500 | 1 | 70/60 | 14,583
Total |  | 45,000 | 1 |  | 48,541

Dated: December 2, 2010.
Carol E. Walker,
Acting Reports Clearance Officer, Centers for Disease Control and Prevention.

[FR Doc. 2010-30763 Filed 12-7-10; 8:45 am]

BILLING CODE 4163-18-P